DEPARTMENT OF ENERGY

Federal Energy Regulatory Commission

[Docket No. EC01-46-000, et al.]

Virginia Electric and Power Company, et al.; Electric Rate and Corporate Regulation Filings

January 10, 2001.

Take notice that the following filings have been made with the Commission:

1. Virginia Electric and Power Company

[Docket No. EC01-46-000]

Take notice that on January 8, 2001, Virginia Electric and Power Company (the Company) filed Exhibit G to supplement its Section 203 application in the above-captioned proceeding (the Application). In the Application, the Company committed to submit other federal and state applications in Exhibit G to the Commission when those applications are complete.

The Applicant states that copies of the filing have been served upon the utility commissions of the states of Virginia and North Carolina and the Company's wholesale requirements customers.

Comment date: January 24, 2001, in accordance with Standard Paragraph E at the end of this notice.

2. San Joaquin Cogen Limited

[Docket No. ER01-896-000]

Take notice that on January 5, 2001, San Joaquin Cogen Limited (San Joaquin), an Exempt Wholesale Generator that owns and operates a natural gas-fired cogeneration facility in Lathrop, California tendered for filing a Power Purchase/Sale Transaction Confirmation (Agreement) in the above-captioned docket.

San Joaquin requests that the Agreement be permitted to become effective January 1, 2001.

Comment date: January 26, 2001, in accordance with Standard Paragraph E at the end of this notice.

3. FirstEnergy Operating Companies

[Docket No. ER00-3771-003]

Take notice that on January 5, 2001, The Cleveland Electric Illuminating Company, Ohio Edison Company, Pennsylvania Power Company and The Toledo Edison Company (collectively, the FirstEnergy Operating Companies), tendered for filing a red-lined version of their FERC Electric Tariff, First Revised Volume No. 3, in which they are offering to make available ancillary services and interconnected operations services. The FirstEnergy Operating Companies state that this tariff identifies modifications to a tariff submitted in September 2000 that were required by the Order Accepting for Filing, as Modified, Proposed Tariff and Service Agreement which was issued in this proceeding on November 22, 2000.

Comment date: January 26, 2001, in accordance with Standard Paragraph E at the end of this notice.

4. Southern Company Services, Inc.

[Docket Nos. ER99-3531-002; ER99-4384-002]

Take notice that on January 5, 2001, Southern Company Services, Inc., as agent for Alabama Power Company, Georgia Power Company, Gulf Power Company, Mississippi Power Company and Savannah Electric and Power Company (collectively Southern Companies), tendered for filing a refund report in compliance with the Commission's November 22, 2000, Letter Order in the above-referenced proceeding. The refund results from settlement rates associated with Southern Companies' generator balancing service tariff.

Comment date: January 26, 2001, in accordance with Standard Paragraph E at the end of this notice.

5. Florida Power & Light Company

[Docket No. ER01-874-000]

Take notice that on January 3, 2001, Florida Power & Light Company (FPL), tendered for filing Service Agreements between El Paso Merchant Energy, L.P.; DTE Energy Trading, Inc.; and Rainbow Energy Marketing Corporation for service pursuant to FPL's Market Based Rates Tariff

FPL requests that the Service Agreements be made effective on December 7, 2000.

Comment date: January 24, 2001, in accordance with Standard Paragraph E at the end of this notice.

6. Cinergy Services, Inc.

[Docket No. ER01-875-000]

Take notice that on January 3, 2001, Cinergy Services, Inc. (Provider), tendered for filing a Firm Point-To-Point Service Agreement under Cinergy's Open Access Transmission Service Tariff (OATT) entered into between Provider and Cinergy Services, Inc., (Customer).

This service agreement has a yearly firm transmission service with LGE Energy via the Gibson Unit Nos. 1-5 Generating Station.

Provider and Customer are requesting an effective date of January 1, 2001.

Comment date: January 24, 2001, in accordance with Standard Paragraph E at the end of this notice.

7. Cinergy Services, Inc.

[Docket No. ER01-876-000]

Take notice that on January 3, 2001, Cinergy Services, Inc. (Provider), tendered for filing a Firm Point-To-Point Service Agreement under Cinergy's Open Access Transmission Service Tariff (OATT) entered into between Provider and Cinergy Services, Inc., (Customer).

This service agreement has a yearly firm transmission service with LGE Energy via the Gibson Unit Nos. 1-5 Generating Station.

Provider and Customer are requesting an effective date of January 1, 2001.

Comment date: January 24, 2001, in accordance with Standard Paragraph E at the end of this notice.

8. Cinergy Services, Inc.

[Docket No. ER01-877-000]

Take notice that on January 3, 2001, Cinergy Services, Inc. (Provider), tendered for filing a Firm Point-To-Point Service Agreement under Cinergy's Open Access Transmission Service Tariff (OATT) entered into between Provider and Cinergy Services, Inc., (Customer).

This service agreement has a yearly firm transmission service with LGE Energy via the Gibson Unit Nos. 1-5 Generating Station.

Provider and Customer are requesting an effective date of January 1, 2001.

Comment date: January 24, 2001, in accordance with Standard Paragraph E at the end of this notice.

9. Cinergy Services, Inc.

[Docket No. ER01-878-000]

Take notice that on January 3, 2001, Cinergy Services, Inc. (Provider), tendered for filing a Non-Firm Point-To-Point Service Agreement under Cinergy's Open Access Transmission Service Tariff (OATT) entered into between Cinergy and Engage Energy America Corp., (Customer).

Provider and Customer are requesting an effective date of December 11, 2000.

Comment date: January 24, 2001, in accordance with Standard Paragraph E at the end of this notice.

10. Cinergy Services, Inc.

[Docket No. ER01-879-000]

Take notice that on January 3, 2001, Cinergy Services, Inc. (Provider), tendered for filing a Firm Point-To-Point Service Agreement under Cinergy's Open Access Transmission Service Tariff (OATT) entered into between Provider and Engage Energy America Corp., (Customer).

Provider and Customer are requesting an effective date of December 11, 2000.

Comment date: January 24, 2001, in accordance with Standard Paragraph E at the end of this notice.

11. Cinergy Services, Inc.

[Docket No. ER01-880-000]

Take notice that on January 3, 2001, Cinergy Services, Inc. (Provider), tendered for filing a service agreement and a Network Operating Agreement under Cinergy's Open Access Transmission Service Tariff (OATT) entered into between Provider and Strategic Energy, L.L.C., (Customer).

Provider and Customer are requesting an effective date of December 14, 2000.

Comment date: January 24, 2001, in accordance with Standard Paragraph E at the end of this notice.

12. Cinergy Services, Inc.

[Docket No. ER01-881-000]

Take notice that on January 3, 2001, Cinergy Services, Inc. (Provider), tendered for filing a service agreement and a Network Operating Agreement under Cinergy's Open Access Transmission Service Tariff (OATT) entered into between Provider and FirstEnergy Services Corp., (Customer).

Provider and Customer are requesting an effective date of December 14, 2000.

Comment date: January 24, 2001, in accordance with Standard Paragraph E at the end of this notice.

13. Cinergy Services, Inc.

[Docket No. ER01-882-000]

Take notice that on January 3, 2001, Cinergy Services, Inc. (Provider), tendered for filing a service agreement and a Network Operating Agreement under Cinergy's Open Access Transmission Service Tariff (OATT) entered into between Provider and Newenergy, Inc., (Customer).

Provider and Customer are requesting an effective date of December 14, 2000.

Comment date: January 24, 2001, in accordance with Standard Paragraph E at the end of this notice.

14. Cinergy Services, Inc.

[Docket No. ER01-883-000]

Take notice that on January 3, 2000, Cinergy Services, Inc. (Provider), tendered for filing a service agreement and a Network Operating Agreement under Cinergy's Open Access Transmission Service Tariff (OATT) entered into between Provider and Allegheny Energy Supply Company, LLC (Customer).

Provider and Customer are requesting an effective date of December 14, 2000.

Comment date: January 24, 2001, in accordance with Standard Paragraph E at the end of this notice.

15. PJM Interconnection, L.L.C.

[Docket No. ER01-885-000]

Take notice that on January 3, 2001, PJM Interconnection, L.L.C. (PJM), tendered for filing an executed interim interconnection service agreement between PJM and PSEG Fossil L.L.C.

PJM requests a waiver of the Commission's 60-day notice requirement to permit the effective dates agreed to by the parties.

Copies of this filing were served upon PSEG Fossil L.L.C. and the state electric utility regulatory commissions within the PJM control area.

Comment date: January 24, 2001, in accordance with Standard Paragraph E at the end of this notice.

16. Southern Indiana Gas and Electric Company

[Docket No. ER01-886-000]

Take notice that on January 4, 2001, Southern Indiana Gas and Electric Company (SIGECO), on tendered for filing service agreements for firm and non-firm transmission service under Part II of its Transmission Services Tariff with Engage Energy America Corp. and for firm transmission service with Aquila Energy Marketing Corporation, respectively.

Copies of the filing were served upon each of the parties to each service agreements.

Comment date: January 24, 2001, in accordance with Standard Paragraph E at the end of this notice.

17. New England Power Company

[Docket No. ER01-888-000]

Take notice that on January 3, 2001, New England Power Company (NEP), tendered for filing a service agreement between NEP and American Paper Mills of Vermont, Inc. (American) for Firm Local Generation Delivery Service under NEP's FERC Electric Tariff, Original Volume No. 9.

Copies of the filing have been served upon American and the Vermont Public Service Board.

Comment date: January 24, 2001, in accordance with Standard Paragraph E at the end of this notice.

18. Boston Edison Company

[Docket No. ER01-890-000]

Take notice that on January 4, 2001, Boston Edison Company, tendered for filing with the Commission an unexecuted Interconnection Agreement Between Sithe Mystic Development LLC and Boston Edison Company.

Comment date: January 25, 2001, in accordance with Standard Paragraph E at the end of this notice.

19. Allegheny Energy Service Corporation on behalf of Allegheny Energy Supply Company, LLC

[Docket No. ER01-891-000]

Take notice that on January 4, 2000, Allegheny Energy Service Corporation on behalf of Allegheny Energy Supply Company, LLC (Allegheny Energy Supply), tendered for filing Service Agreement No. 107 to add one (1) new Customer to the Market Rate Tariff under which Allegheny Energy Supply offers generation services.

Allegheny Energy Supply proposes to make service available as of January 3, 2001 to Calpine Energy Services, L.P.

Copies of the filing have been provided to the Public Utilities Commission of Ohio, the Pennsylvania Public Utility Commission, the Maryland Public Service Commission, the Virginia State Corporation Commission, the West Virginia Public Service Commission, and all parties of record.

Comment date: January 25, 2001, in accordance with Standard Paragraph E at the end of this notice.

20. Entergy Services, Inc.

[Docket No. ER01-892-000]

Take notice that on January 4, 2001, Entergy Services, Inc., on behalf of Entergy Arkansas, Inc., Entergy Gulf States, Inc., Entergy Louisiana, Inc., Entergy Mississippi, Inc., and Entergy New Orleans, Inc., (collectively, the Entergy Operating Companies), tendered for filing a Non-Firm Point-To-Point Transmission Service Agreement and a Short-Term Firm Point-To-Point Transmission Service Agreement both between Entergy Services, Inc., as agent for the Entergy Operating Companies, and Plum Point Energy Associates, LLC.

Comment date: January 25, 2001, in accordance with Standard Paragraph E at the end of this notice.

21. Carolina Power & Light Company

[Docket No. ER01-893-000]

Take notice that on January 4, 2001, Carolina Power & Light Company (CP&L), tendered for filing an executed Service Agreement between CP&L and the following eligible buyer, Powerex Corp. Service to this eligible buyer will be in accordance with the terms and conditions of CP&L's Market-Based Rates Tariff, FERC Electric Tariff No. 4, for sales of capacity and energy at market-based rates.

CP&L requests an effective date of January 2, 2001 for this Service Agreement.

Copies of the filing were served upon the North Carolina Utilities Commission and the South Carolina Public Service Commission.

Comment date: January 25, 2001, in accordance with Standard Paragraph E at the end of this notice.

22. Entergy Services, Inc.

[Docket No. ER01-894-000]

Take notice that on January 5, 2001, Entergy Services, Inc. (Entergy), on behalf of Entergy Arkansas, Inc., Entergy Gulf States, Inc., Entergy Louisiana, Inc., Entergy Mississippi, Inc., and Entergy New Orleans, Inc. (collectively, the Entergy Operating Companies), tendered for filing a Second Revised Network Integration Transmission Service Agreement between Entergy, as agent for the Entergy Operating Companies, and East Texas Electric Cooperative, Inc., Sam Rayburn G&T Electric Cooperative, Inc., and Tex-La Electric Cooperative of Texas, Inc., (NITSA). Entergy states that this filing includes the Second Amendment to the NITSA and additionally reconciles alterations to the NITSA filed in Docket No. ER00-3610-000 and Docket Nos. EL99-6-001, ER99-231-001, ER99-232-001, and ER99-487-001 (consolidated).

Comment date: January 26, 2001, in accordance with Standard Paragraph E at the end of this notice.

23. The Dayton Power and Light Company

[Docket No. ER01-895-000]

Take notice that on January 5, 2001, The Dayton Power and Light Company (Dayton), tendered for filing a service agreement establishing Enron Power Marketing, Inc. as a customer under the terms of Dayton's FERC Electric Tariff, Original Volume No. 10.

Dayton requests an effective date of one day subsequent to this filing for the service agreements. Accordingly, Dayton requests waiver of the Commission's notice requirements.

Copies of this filing were served upon Enron Power Marketing, Inc. and the Public Utilities Commission of Ohio.

Comment date: January 26, 2001, in accordance with Standard Paragraph E at the end of this notice.

Standard Paragraphs

E. Any person desiring to be heard or to protest such filing should file a motion to intervene or protest with the Federal Energy Regulatory Commission, 888 First Street, NE., Washington, DC 20426, in accordance with rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-1416 Filed 1-17-01; 8:45 am]

BILLING CODE 6717-01-P